DEPARTMENT OF COMMERCE

National Oceanic and Atmospheric Administration

[I.D. 050102H]

Taking and Importing of Marine Mammals

AGENCY: National Marine Fisheries Service (NMFS), National Oceanic and Atmospheric Administration (NOAA), Commerce.

ACTION: Notice of embargo for Peru.

SUMMARY: On May 17, 2002, the Assistant Administrator for Fisheries, NMFS, acted to prohibit the importation into the United States from Peru of yellowfin tuna and yellowfin tuna products harvested by purse seine in the eastern tropical Pacific Ocean (ETP). NMFS is required to take this action because Peru harvests tuna in the ETP with purse seine vessels with greater than 400 short tons (362.8 metric tons) carrying capacity and has not received an “affirmative finding” as required by regulations. This ban remains in effect for Peru until an affirmative finding has been granted by the Assistant Administrator.

DATES: Effective May 17, 2002.

FOR FURTHER INFORMATION CONTACT: Allison Routt, Southwest Region, NMFS, 501 West Ocean Boulevard, Suite 4200, Long Beach, CA, 90802-4213, Phone 562-980-4020, Fax 562-980-4027.

SUPPLEMENTARY INFORMATION: In order to export to the United States yellowfin tuna harvested by purse seine in the ETP, the Marine Mammal Protection Act (MMPA) requires a nation that has purse seine vessels with over 400 short tons (362.8 metric tons) carrying capacity fishing for tuna in the ETP (i.e., a harvesting nation) submit documentary evidence to the Assistant Administrator requesting an affirmative finding. The process for such requests is described in regulations at 50 CFR 216.24(f)(9). Based upon documentary evidence submitted by the harvesting nation and obtained from the Inter-American Tropical Tuna Commission (IATTC) and/or from the Department of State, the Assistant Administrator will determine whether the nation qualifies for an affirmative finding under section 101(a)(2)(B) of the MMPA. An affirmative finding allows for the importation into the United States of yellowfin tuna and yellowfin tuna products harvested by purse seine in the ETP after March 3, 1999. If a harvesting nation does not provide documentary evidence that shows that the nation meets the standards under section 101(a)(2)(B) of the MMPA, the Assistant Administrator must prohibit imports of yellowfin tuna harvested by purse seine vessels in the ETP.

The application procedures to request an affirmative finding are described in the interim final regulations implementing the International Dolphin Conservation Program Act (65 FR 30, January 3, 2000). Harvesting nations must submit documentary evidence directly to the Assistant Administrator demonstrating that they meet several conditions related to compliance with the International Dolphin Conservation Program (IDCP) and request an affirmative finding. To issue an affirmative finding, NMFS must receive the following information:

1. A statement requesting an affirmative finding;

2. Evidence of membership in the Inter-American Tropical Tuna Commission (IATTC);

3. Evidence that a nation is meeting its obligations to the IATTC, including financial obligations;

4. Evidence that a nation is complying with the IDCP. For example, national laws and regulations implementing the Agreement on the IDCP and information that the nation is enforcing those laws and regulations;

5. Evidence of a tuna tracking and verification program comparable to the U.S. tracking and verification regulations at 50 CFR 216.94;

6. Evidence that the national fleet dolphin mortality limits (DMLs) were not exceeded in the previous calendar year;

7. Evidence that the national fleet per-stock per-year mortality limits, if they are allocated to countries, were not exceeded in the previous calendar year;

8. Authorization for the IATTC to release to the Assistant Administrator complete, accurate, and timely information necessary to verify and inspect Tuna Tracking Forms; and

9. Authorization for the IATTC to release to the Assistant Administrator information about whether a nation is meeting its obligations of membership to the IATTC and whether a nation is meeting its obligations under the IDCP, including managing (i.e., not exceeding) its national fleet DMLs or its national fleet per-stock per-year mortality limits.

To maintain the affirmative finding, the government of a harvesting nation must request an affirmative finding every 5 years and submit the required documentary evidence directly to the Assistant Administrator. A nation may opt to provide this information directly to NMFS on an annual basis or to authorize the IATTC to release the information to NMFS in years when NMFS will review and consider whether to issue an affirmative finding determination without an application from the harvesting nation.

An affirmative finding will be terminated, in consultation with the Secretary of State, if the Assistant Administrator determines that the requirements of 50 CFR 216.24(f)(9) are no longer being met or that a nation is consistently failing to take enforcement actions on violations which diminish the effectiveness of the IDCP.

Until such time as the Assistant Administrator receives documentary evidence from the Republic of Peru demonstrating that it is in compliance with the IDCP and issues an affirmative finding, the ban on imports of yellowfin tuna harvested by purse seine in the ETP will continue. This action prohibits the importation into the United States of yellowfin tuna and yellowfin tuna products harvested by purse seine vessels in the ETP after March 3, 1999, and exported from the Republic of Peru.

Dated: May 17, 2002.
Rebecca Lent,
Deputy Assistant Administrator for Regulatory Programs, National Marine Fisheries Service.

[FR Doc. 02-12870 Filed 5-21-02; 8:45 am]

BILLING CODE 3510-22-S